NUCLEAR REGULATORY COMMISSION

[Docket No. 72-17; NRC-2020-0243]

Portland General Electric Company; Trojan Independent Spent Fuel Storage Installation

AGENCY: Nuclear Regulatory Commission.

ACTION: License amendment application; issuance.

SUMMARY: The U.S. Nuclear Regulatory Commission (NRC) reviewed an application by Portland General Electric Company (PGE) for amendment of Materials License No. SNM-2509 which authorizes PGE to receive, possess, store, and transfer spent nuclear fuel and associated radioactive materials. The amendment sought to revise the description in the safety analysis report of the licensee's evaluation of explosion accident events.

DATES: December 17, 2020.

ADDRESSES: Please refer to Docket ID NRC-2020-0243 when contacting the NRC about the availability of information regarding this document. You may obtain publicly available information related to this document using any of the following methods:

• Federal Rulemaking Website: Go to https://www.regulations.gov and search for Docket ID NRC-2020-0243. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents is currently closed. You may submit your request to the PDR via email at pdr.resource@nrc.gov or call 1-800-397-4209 between 8:00 a.m. and 4:00 p.m. (EST), Monday through Friday, except Federal holidays.

FOR FURTHER INFORMATION CONTACT: Chris Allen, Office of Nuclear Material Safety and Safeguards, U.S. Nuclear Regulatory Commission, Washington, DC 20555-0001; telephone: 301-415-6877; email: William.Allen@nrc.gov.

SUPPLEMENTARY INFORMATION: By letter dated March 10, 2020 (ADAMS Package Accession No. ML20083G798), PGE submitted to the NRC, in accordance with part 72 of title 10 of the Code of Federal Regulations (10 CFR), a request to amend Special Nuclear Materials License No. SNM-2509 for the Trojan Independent Spent Fuel Storage Installation (ISFSI) site located in Columbia County, Oregon. License No. SNM-2509 authorizes PGE to receive, possess, store, and transfer spent nuclear fuel and associated radioactive materials resulting from the operation of the Trojan Power Plant in an ISFSI. Specifically, the amendment proposed to address a new anchorage point on the Columbia River near the ISFSI and incorporate a new method of evaluating explosion accident events.

The NRC issued a letter dated June 12, 2020 (ADAMS Accession No. ML20149K631), notifying PGE that the application was acceptable for review. In accordance with 10 CFR 72.16, a notice of docketing was published in the Federal Register on June 26, 2020 (85 FR 38398). The notice of docketing included an opportunity to request a hearing and to petition for leave to intervene. No requests for a hearing or petitions for leave to intervene were submitted.

The NRC prepared a safety evaluation report (ADAMS Accession No. ML20280A520) to document its review and evaluation of the amendment request. Also, in connection with this action, the NRC prepared an environmental assessment (EA) and a finding of no significant impact (FONSI). The notice of availability of the EA and FONSI was published in the Federal Register on November 17, 2020 (85 FR 73298).

Upon completing its review, the NRC staff determined that the request complies with the standards and requirements of the Atomic Energy Act of 1954, as amended (the Act), as well as the NRC's rules and regulations. The Commission has made appropriate findings as required by the Act and the Commission's rules and regulations in 10 CFR chapter I, which are set forth in the license amendment. The NRC approved and issued Amendment No. 7 to Special Nuclear Materials License No. SNM-2509, held by PGE for the receipt, possession, transfer, and storage of spent fuel and associated radioactive materials at the Trojan ISFSI. Pursuant to 10 CFR 72.46(d), the NRC is providing notice of the action taken. Amendment No. 7 was effective as of the date of issuance, December 11, 2020.

Dated: December 11, 2020.
For the Nuclear Regulatory Commission.
John B. McKirgan,
Chief, Storage and Transportation Licensing Branch, Division of Fuel Management, Office of Nuclear Material Safety and Safeguards.

[FR Doc. 2020-27702 Filed 12-16-20; 8:45 am]

BILLING CODE 7590-01-P